NUCLEAR REGULATORY COMMISSION

[NRC-2009-0351]

Notice of Issuance of Regulatory Guide

AGENCY: Nuclear Regulatory Commission.

ACTION: Notice of Issuance and Availability of Regulatory Guide 1.68.2, Revision 2, “Initial Startup Test Program to Demonstrate Remote Shutdown Capability for Water-Cooled Nuclear Power Plants.”

FOR FURTHER INFORMATION CONTACT: Mark P. Orr, Regulatory Guide Development Branch, Division of Engineering, Office of Nuclear Regulatory Research, U.S. Nuclear Regulatory Commission, Washington, DC 20555-0001, telephone (301) 415-6373 or e-mail Mark.Orr@nrc.gov.

SUPPLEMENTARY INFORMATION:

I. Introduction

The U.S. Nuclear Regulatory Commission (NRC) is issuing a revision to an existing guide in the agency's “Regulatory Guide” series. This series was developed to describe and make available to the public information such as methods that are acceptable to the NRC staff for implementing specific parts of the agency's regulations, techniques that the staff uses in evaluating specific problems or postulated accidents, and data that the staff needs in its review of applications for permits and licenses.

Revision 2 of Regulatory Guide 1.68.2, “Initial Startup Test Program to Demonstrate Remote Shutdown Capability for Water-Cooled Nuclear Power Plants,” was issued with a temporary identification as Draft Regulatory Guide, DG-1236. This guide describes an initial startup test program acceptable to the staff of the U.S. Nuclear Regulatory Commission (NRC) for demonstrating hot shutdown capability and the potential for cold shutdown from outside the control room. This guide is applicable to water-cooled nuclear power plants.

II. Further Information

In August 2009, DG-1236 was published to allow public comments for a period of 60 days. Industry comments were received from the Nuclear Energy Institute (NEI), no other comments were received and the comment period was closed on October 9, 2009. The staff's responses to comments received on DG-1236 are located in the NRC's Agencywide Document Access and Management system under accession number ML100610057. Electronic copies of Regulatory Guide 1.68.2, Revision 2 are available through the NRC's public Web site under “Regulatory Guides” at http://www.nrc.gov/reading-rm/doc-collections/.

In addition, regulatory guides are available for inspection at the NRC's Public Document Room (PDR) located at Room O-1F21, One White Flint North, 11555 Rockville Pike, Rockville, Maryland 20852-2738. The PDR's mailing address is USNRC PDR, Washington, DC 20555-0001. The PDR can also be reached by telephone at (301) 415-4737 or (800) 397-4209, by fax at (301) 415-3548, and by e-mail to pdr@nrc.gov.

Regulatory guides are not copyrighted, and NRC approval is not required to reproduce them.

Dated at Rockville, Maryland, this 14th day of April 2010.
For the Nuclear Regulatory Commission.
Harriet Karagiannis,
Acting Chief, Regulatory Guide Development Branch, Division of Engineering, Office of Nuclear Regulatory Research.

[FR Doc. 2010-9161 Filed 4-20-10; 8:45 am]

BILLING CODE 7590-01-P